DEPARTMENT OF JUSTICE

Notice of Lodging of Proposed Consent Decree Under the Toxic Substances Control Act

On December 13, 2024, the Department of Justice lodged a proposed consent decree with the United States District Court for the Southern District of New York in the lawsuit entitled United States, et al. v. Lilmor Management LLC, et al., Civil Action No. 24 Civ. 9520.

In this action, the United States seeks injunctive relief pursuant to the Toxic Substances Control Act (“TSCA”) and the Residential Lead-Based Paint Hazard Reduction Act of 1992 (“RLBPHRA”) against Lilmor Management LLC (“Lilmor”), Morris Lieberman, and 49 limited liability companies for failure to make required disclosures to prospective tenants about lead-based paint in their apartments as required by the Lead Disclosure Rule (24 CFR part 35, subpart A, and 40 CFR part 745, subpart F). As to Lilmor and Lieberman, the United States also seeks injunctive relief under TSCA for failing to comply with safe work practices and related requirements during renovations as required by the Renovation, Repair, and Painting Rule, 40 CFR part 745. The United States seeks further relief on a theory of public nuisance. The State of New York has joined in the suit to assert claims under state law.

The consent decree requires the Defendants to pay a $3.25 million administrative penalty to the United States under TSCA and the RLBPHRA and to perform injunctive relief set forth in the consent decree, including the abatement of lead-based paint and the remediation of substandard living conditions. In settlement of its claims, New York State has agreed to payment of $325,000 to a New York City agency and creation of a restitution fund of $2.925 million. The settlement also provides for the hiring of a third-party housing expert to oversee settlement implementation.

The publication of this notice opens a period for public comment on the consent decree. Comments should be addressed to the Assistant Attorney General, Environment and Natural Resources Division, and should refer to United States, et al. v. Lilmor Management LLC, et al., D.J. Ref. No. 90-5-1-1-13022. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the consent decree may be examined and downloaded at this Justice Department website: http://www.justice.gov/enrd/consent-decrees. If you require assistance accessing the consent decree, you may request assistance by email or by mail to the addresses provided above for submitting comments.

Eric D. Albert,
Assistant Section Chief, Environmental Enforcement Section, Environment and Natural Resources Division.

[FR Doc. 2024-29978 Filed 12-17-24; 8:45 am]

BILLING CODE 4410-15-P